Title 3—

The President

Proclamation 8206 of November 16, 2007

National Family Week, 2007

By the President of the United States of America

A Proclamation

As families gather together to celebrate Thanksgiving, we underscore the comforting and positive role they play in our society. During National Family Week, we celebrate the contributions of families everywhere.

Families strengthen our communities by teaching important values such as compassion and honesty to their children. Families also offer a supportive environment and help ensure that children grow into responsible members of society. By providing guidance and unconditional love, parents shape the character of their children.

My Administration believes that the strength of our Nation is built upon the foundation of strong families. To help support families, we have doubled the child tax credit, reduced the marriage penalty, and lowered tax rates. We are also committed to promoting positive youth development. The Helping America's Youth initiative, led by First Lady Laura Bush, supports organizations, including faith-based and community groups, that continue this important mission.

All Americans are grateful to our Nation's military families, who have stood by their loved ones in times of war and peace. Our country will always be especially thankful for the sacrifices of our military personnel and for their devotion to duty and their love of country. During National Family Week, we pray for their safe return and for the families who await them at home.

NOW, THEREFORE, I, GEORGE W. BUSH, President of the United States of America, by virtue of the authority vested in me by the Constitution and laws of the United States, do hereby proclaim November 18 through November 24, 2007, as National Family Week. I invite the States, communities, and all the people of the United States to join together in observing this week with appropriate ceremonies and activities to honor our Nation's families.

IN WITNESS WHEREOF, I have hereunto set my hand this sixteenth day of November, in the year of our Lord two thousand seven, and of the Independence of the United States of America the two hundred and thirty-second.

[FR Doc. 07-5815

Filed 11-20-07; 10:06 am]

Billing code 3195-01-P